ENVIRONMENTAL PROTECTION AGENCY

[FRL-8036-8]

Gulf of Mexico Program Citizens Advisory Committee Meeting

AGENCY: Environmental Protection Agency ( EPA).

ACTION: Notice of meeting.

SUMMARY: Under the Federal Advisory Committee Act (Pub. L. 92-463), EPA gives notice of a meeting of the Gulf of Mexico Program (GMP) Citizens Advisory Committee (CAC).

DATES: The meeting will be held in conjunction with the Gulf of Mexico Summit on Tuesday, March 28, 2006, from 8:30 p.m. to 6 p.m.; Wednesday, March 29, 2006, from 8 a.m. to 6 p.m., and Thursday, March 30, 2006, from 8 a.m. to 5 p.m.

ADDRESSES: The meeting will be held at the Omni-Bayfront Hotel, 900 North Shoreline Boulevard, Corpus Christi, TX 78401, (361) 887-1600, http://www.omnihotels.com.

FOR FURTHER INFORMATION CONTACT: Gloria D. Car, Designated Federal Officer, Gulf of Mexico Program Office, Mail Code EPA/GMPO, Stennis Space Center, MS 39529-6000 at (228) 688-2421.

SUPPLEMENTARY INFORMATION: The proposed agenda includes the following topics: Hurricane Recovery; Coastal Growth and Development; Economic Vitality; Habitat Alterations; Public Health; and Collaborative Regional Governance.

The meeting is open to the public.

Dated: February 17, 2006.
Gloria D. Car,
Designated Federal Officer.

[FR Doc. E6-2728 Filed 2-24-06; 8:45 am]

BILLING CODE 6560-50-P